DEPARTMENT OF COMMERCE

National Oceanic and Atmospheric Administration

RIN 0648-XE596

Pacific Fishery Management Council; Public Meeting

AGENCY: National Marine Fisheries Service (NMFS), National Oceanic and Atmospheric Administration (NOAA), Commerce.

ACTION: Notice; public meeting.

SUMMARY: The Pacific Fishery Management Council's (Pacific Council) Ad Hoc Ecosystem Workgroup (EWG) will hold a webinar, which is open to the public, to discuss and draft comments on the NOAA Fisheries Climate Science Strategy (NCSS) Western Regional Action Plan (WRAP).

DATES: The webinar will be held from 1:30 to 4:30 p.m., or when business for the day is completed, on May 19, 2016.

ADDRESSES: To join the webinar visit this link: http://www.gotomeeting.com/online/webinar/join-webinar. Enter the Webinar ID: 140-237-731. Enter your name and email address (required). Once you have joined the webinar, choose either your computer's audio or select “Use Telephone.” If you do not select “Use Telephone” you will be connected to audio using your computer's microphone and speakers (VolP). To use your telephone for the audio portion of the meeting dial this TOLL number +1 (631) 992-3221 (not a toll-free number); then enter the Attendee phone audio access code 621-588-987, then enter your audio phone pin (shown after joining the webinar). Participants are encouraged to use their telephone, as this is the best practice to avoid technical issues and excessive feedback. You may send an email to Mr. Kris Kleinschmidt (kris.kleinschmidt@noaa.gov) or contact him at (503) 820-2280, extension 425 for technical assistance. A public listening station will also be provided at the Pacific Council office.

Council address: Pacific Council, 7700 NE Ambassador Place, Suite 101, Portland, OR 97220-1384.

FOR FURTHER INFORMATION CONTACT: Dr. Kit Dahl, Pacific Council Staff Officer, phone: (503) 820-2422, email: kit.dahl@noaa.gov.

SUPPLEMENTARY INFORMATION: The purpose of the webinar is for the EWG to discuss and draft comments on the NCSS WRAP. A March 22, 2016 draft of the WRAP may be downloaded at http://www.st.nmfs.noaa.gov/ecosystems/climate/rap/western-regional-action-plan. The WRAP is being developed to increase the production, delivery, and use of climate-related information and will identify priority needs and specific actions to implement the NOAA Fisheries Climate Science Strategy in the region over the next five years. Based on the webinar discussion, the EWG may submit a written report with its comments for the Pacific Council's June 23-28, 2016 meeting in Tacoma, WA. The EWG will also discuss progress on completing the Coordinated Ecosystem Indicator Review Initiative and plan future activities. This initiative is an opportunity for the larger Pacific Council family to discuss the Annual State of the California Current Ecosystem Report's indicator categories, what indicators should be part of the annual report, and how they interface with Council-managed fisheries to better support the Council's ecosystem-based management policies.

Although nonemergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

This meeting is physically accessible to people with disabilities. Requests for sign language interpretation or other auxiliary aids should be directed to Mr. Kris Kleinschmidt at (503) 820-2425 at least 5 days prior to the meeting date.

Dated: April 27, 2016.
Jeffrey N. Lonergan,
Acting Deputy Director, Office of Sustainable Fisheries, National Marine Fisheries Service.

[FR Doc. 2016-10240 Filed 4-29-16; 8:45 am]

BILLING CODE 3510-22-P